DEPARTMENT OF COMMERCE

International Trade Administration

[C-552-829]

Passenger Vehicle and Light Truck Tires From the Socialist Republic of Vietnam: Preliminary Results of Countervailing Duty Administrative Review and Partial Rescission of Administrative Review; 2020-2021

AGENCY: Enforcement and Compliance, International Trade Administration, Department of Commerce.

SUMMARY: The U.S. Department of Commerce (Commerce) preliminarily determines that the company subject to this countervailing duty administrative review of passenger vehicle and light truck tires (PVLT tires) from the Socialist Republic of Vietnam (Vietnam) received countervailable subsidies during the period of review (POR), November 10, 2020, through December 31, 2021. Additionally, Commerce is rescinding the review with respect to three companies. Interested parties are invited to comment on these preliminary results.

DATES: Applicable July 21, 2023.

FOR FURTHER INFORMATION CONTACT: Thomas Schauer, AD/CVD Operations, Office I, Enforcement and Compliance, International Trade Administration, U.S. Department of Commerce, 1401 Constitution Avenue NW, Washington, DC 20230; telephone: (202) 482-0410.

SUPPLEMENTARY INFORMATION:

Background

On July 19, 2021, Commerce published in the Federal Register the countervailing duty order on PVLT tires from Vietnam.¹ On July 1, 2022, Commerce published in the Federal Register a notice of opportunity to request an administrative review of the Order for the POR.² Between July 29 and August 1, 2022, we received timely requests from multiple parties to conduct an administrative review of the Order.³ On September 6, 2022, we published in the Federal Register a notice of initiation for this administrative review.⁴ On March 13, 2023, Commerce extended the deadline for the preliminary results of this review by 117 days to July 28, 2023.⁵

¹ See Passenger Vehicle and Light Truck Tires from the Socialist Republic of Vietnam: Countervailing Duty Order, 86 FR 38013 (July 19, 2021) (Order).

² See Antidumping or Countervailing Duty Order, Finding, or Suspended Investigation; Opportunity To Request Administrative Review and Join Annual Inquiry Service List, 87 FR 39461 (July 1, 2022).

³ See Bridgestone's Letter, “Request for Administrative Review,” dated July 29, 2022; Sailun's Letter, “Request for Administrative Review,” August 1, 2022; and KTV and KTCI's Letter, “Request for Administrative Review,” dated August 1, 2022.

⁴ See Initiation of Antidumping and Countervailing Duty Administrative Reviews, 87 FR 54463, 54474 (September 6, 2022).

⁵ See Memorandum, “Extension of Deadline for Preliminary Results of Countervailing Duty Administrative Review,” dated March 13, 2023.

For a complete description of the events that followed the initiation of this review, see the Preliminary Decision Memorandum.⁶ A list of topics discussed in the Preliminary Decision Memorandum is provided in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Decision Memorandum for the Preliminary Results and Partial Rescission of the Administrative Review of the Countervailing Duty Order on Passenger Vehicle and Light Truck Tires from the Socialist Republic of Vietnam; 2020-2021,” dated concurrently with, and hereby adopted by, this notice (Preliminary Decision Memorandum).

Scope of the Order

The scope of the Order covers PVLT tires from Vietnam. For a complete description of the scope of the Order, see the Preliminary Decision Memorandum.

Methodology

We are conducting this administrative review in accordance with section 751(a)(1)(A) of the Tariff Act of 1930, as amended (the Act). For each of the subsidy programs found countervailable, we determine that there is a subsidy, i.e., a financial contribution by an “authority” that confers a benefit to the recipient, and that the subsidy is specific.⁷ For a full description of the methodology underlying our preliminary conclusions, see the Preliminary Decision Memorandum.

⁷ See sections 771(5)(B) and (D) of the Act regarding financial contribution; section 771(5)(E) of the Act regarding benefit; and section 771(5A) of the Act regarding specificity.

Partial Preliminary Rescission of Administrative Review

Pursuant to 19 CFR 351.213(d)(1), Commerce will rescind an administrative review, in whole or in part, if the parties that requested a review withdraw the request within 90 days of the date of publication of the notice of initiation. Commerce received withdrawal requests with respect to Sailun (Vietnam) Co., Ltd. (Sailun), Kumho Tire (Vietnam) Co., Ltd. (KTV), and Kumho Tire Co., Inc. (KTCI).⁸ Because the withdrawal requests were timely filed and no other parties requested reviews of these companies, in accordance with 19 CFR 351.213(d)(1), Commerce is rescinding this review of the Order for Sailun, KTV, and KTCI.⁹

⁸ See Sailun's Letter, “Sailun Withdrawal of Review Request,” dated September 29, 2022; and KTV/KTCI's Letter, “Withdrawal of Request for Administrative Review,” dated October 25, 2022.

⁹ See, e.g., Lightweight Thermal Paper from the People's Republic of China: Notice of Rescission of Countervailing Duty Administrative Review; 2015, 82 FR 14349 (March 20, 2017); and Circular Welded Carbon Quality Steel Pipe from the People's Republic of China: Rescission of Countervailing Duty Administrative Review; 2017, 84 FR 14650 (April 11, 2019).

Preliminary Results of Review

As a result of this administrative review, we preliminarily find that the following net countervailable subsidy rates exist for the period November 10, 2020, through December 31, 2021:

Company | Subsidy rate—2020 (percent ad valorem) | Subsidy rate—2021 (percent ad valorem)
Bridgestone Tire Manufacturing Vietnam, LLC | 1.26 | 0.00

Cash Deposit Requirements

Pursuant to section 751(a)(2)(C) of the Act, Commerce intends, upon publication of the final results, to instruct U.S. Customs and Border Protection (CBP) to collect cash deposits of estimated countervailing duties in the amounts calculated in the final results of this review for the company listed above, on shipments of subject merchandise entered, or withdrawn from warehouse, for consumption on or after the date of publication of the final results of this administrative review. If the rate calculated in the final results for 2021 is zero or de minimis, no cash deposit will be required on shipments of the subject merchandise entered or withdrawn from warehouse, for consumption on or after the date of publication of the final results of this review. For all non-reviewed companies, CBP will continue to collect cash deposits of estimated countervailing duties at the all-others rate (i.e., 6.46 percent) ¹⁰ or the most recent company-specific rate applicable to the company, as appropriate. These cash deposit requirements, when imposed, shall remain in effect until further notice.

¹⁰ See Order, 86 FR at 38014.

Assessment Rates

Upon issuance of the final results of this administrative review, consistent with section 751(a)(1) of the Act and 19 CFR 351.212(b)(2), Commerce shall determine, and CBP shall assess, countervailing duties on all appropriate entries covered by this review. For Sailun and KTCI, Commerce will instruct CBP to assess countervailing duties on all appropriate entries at the rate equal to the cash deposit of estimated countervailing duties required at the time of entry, or withdrawal from warehouse, for consumption, during the period November 10, 2020, through December 31, 2021, in accordance with 19 CFR 351.212(c)(l)(i). With respect to KTV, entries produced and/or exported by KTV during the period November 10, 2020, through December 31, 2021, are enjoined from liquidation; ¹¹ as a result, we will issue the appropriate liquidation instructions for KTV once the statutory injunction is lifted.

¹¹ See KTV Statutory Injunction Instructions dated November 2, 2022, CBP Message 2306402.

For Bridgestone Tire Manufacturing Vietnam, LLC (Bridgestone), the only company subject to this review, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Disclosure and Public Comment

We intend to disclose the calculations performed for these preliminary results to parties in this proceeding within five days after public announcement of the preliminary results in accordance with 19 CFR 351.224(b). Pursuant to 19 CFR 351.309(c), interested parties may submit case briefs no later than 30 days after the date of publication of this notice. Rebuttal briefs, limited to issues raised in the case briefs, may be filed no later than seven days after the date for filing case briefs.¹² Parties who submit case or rebuttal briefs in this proceeding are encouraged to submit with each argument: (1) a statement of the issue, (2) a brief summary of the argument, and (3) a table of authorities.¹³ Note that Commerce has temporarily modified certain of its requirements for serving documents containing business proprietary information, until further notice.¹⁴

¹² See 19 CFR 351.309(d).

¹³ See 19 CFR 351.309(c)(2) and (d)(2).

¹⁴ See Temporary Rule Modifying AD/CVD Service Requirements Due to COVID-19, 85 FR 41363 (July 10, 2020).

Pursuant to 19 CFR 351.310(c), interested parties who wish to request a hearing, limited to issues raised in the case and rebuttal briefs, must submit a written request to the Assistant Secretary for Enforcement and Compliance, filed electronically via ACCESS. An electronically filed document must be received successfully in its entirety by Commerce's electronic records system, ACCESS, by 5:00 p.m. Eastern Time within 30 days after the date of publication of this notice.¹⁵ Requests should contain: (1) the party's name, address, and telephone number; (2) the number of participants; and (3) a list of issues to be discussed. If a request for a hearing is made, we will inform parties of the scheduled date and time for the hearing.

¹⁵ See 19 CFR 351.310(c).

Unless extended, we intend to issue the final results of this administrative review, including the results of our analysis of the issues raised by the parties in their case briefs, no later than 120 days after the date of publication of this notice in the Federal Register, pursuant to section 751(a)(3)(A) of the Act.

Notification to Interested Parties

We are issuing and publishing these preliminary results in accordance with sections 751(a)(1) and 777(i)(1) of the Act, and 19 CFR 351.213(d)(4) and 351.221(b)(4).

Dated: July 17, 2023.
Lisa W. Wang,
Assistant Secretary for Enforcement and Compliance.

Appendix

List of Topics Discussed in the Preliminary Decision Memorandum

I. Summary

II. Background

III. Scope of the Order

IV. Application of the CVD Law to Imports from Vietnam

V. Subsidies Valuation

VI. Benchmarks and Discount Rates

VII. Analysis of Programs

VIII. Recommendation

[FR Doc. 2023-15530 Filed 7-20-23; 8:45 am]

BILLING CODE 3510-DS-P